DEPARTMENT OF HOMELAND SECURITY

Transportation Security Administration

[Docket No. TSA-2005-21866]

Intent To Request Renewal From OMB of One Current Public Collection of Information: Enhanced Security Procedures at Ronald Reagan Washington National Airport

AGENCY: Transportation Security Administration (TSA), DHS.

ACTION: 60-day Notice.

SUMMARY: The Transportation Security Administration (TSA) invites public comment on one currently approved Information Collection Request (ICR), OMB control number 1652-0035, abstracted below, that we will submit to the Office of Management and Budget (OMB) for renewal in compliance with the Paperwork Reduction Act. The ICR describes the nature of the information collection and its expected burden. The collection requires General Aviation (GA) aircraft operators who wish to fly into and/or out of Ronald Reagan Washington National Airport (DCA) to designate a security coordinator and adopt a DCA Access Standard Security Program (DASSP).

DATES: Send your comments by April 30, 2012.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control No. 1652-0035; Enhanced Security Procedures at Ronald Reagan Washington National Airport (DCA), 49 CFR part 1562. TSA is hereby requesting an extension of this information collection.

TSA requires General Aviation (GA) aircraft operators who wish to fly into and/or out of DCA to designate a security coordinator and adopt the DASSP. Once aircraft operators have complied with the DASSP requirements, they may request a slot reservation from the Federal Aviation Administration (FAA) and request a flight authorization from TSA to fly into and out of DCA.

To receive authorization for a flight into or out of DCA, aircraft operators must submit certain information to TSA so that TSA can conduct name-based threat assessments on the crewmembers and passengers, including armed security officers (ASOs) when required to be onboard. The operator's last point of departure must be from a Fixed Base Operator (FBO) that holds a TSA-approved DCA Access Fixed Based Operator Standard Security Program (FBOSSP), located at an airport designated by TSA (gateway airport). Before the aircraft departs the gateway airport for DCA, the operator must inspect the aircraft and screen the passengers, their carry-on property, and property carried in the cargo hold.

For each passenger and crewmember onboard an aircraft that operates into and/or out of DCA, the aircraft operator must submit the following information: (1) Legal name, including first, middle, and last, any applicable suffix, and any other names used; (2) current mailing address, including residential address if different than current mailing address; (3) date and place of birth; (4) Social Security number (submission is voluntary, although recommended); (5) citizenship status and date of naturalization, if the individual is a naturalized citizen of the United States; and (6) alien registration number, if applicable. TSA uses this information to perform a security threat assessment to determine whether the individuals pose, or are suspected of posing, a security threat.

TSA requires the following individuals to submit identifying information and fingerprints for a Criminal History Records Check (CHRC): Individuals designated as security coordinators, ASOs, and flight crewmembers that operate GA aircraft into and out of DCA. For flight crewmembers, TSA also uses this information to check FAA records to determine whether the flight crewmember has a record of violation of specified FAA safety regulations and to conduct CHRCs on flight crewmembers who have not successfully undergone a CHRC with the crewmember's current employer. As part of the threat assessment process, TSA shares the information with the Federal Bureau of Investigation (FBI). In addition to providing fingerprints and identifying information, ASOs must provide personal history information as well as weapon qualification information.

Aircraft operators must provide TSA with the flight plan and registration number of the aircraft that operates to or from DCA. This information is shared with FAA for purposes of tracking and identifying approved aircraft. TSA estimates a total of 4887 respondents annually. The total number of annual burden hours is estimated to be 5546.74 hours per year (4887 respondents × 1.135 hours per respondent = 5546.74 hours annually).

Issued in Arlington, Virginia, on February 23, 2012.
Joanna Johnson,
Paperwork Reduction Act Officer, Office of Information Technology.

[FR Doc. 2012-4735 Filed 2-28-12; 8:45 am]

BILLING CODE 9110-05-P